ENVIRONMENTAL PROTECTION AGENCY

[FRL-8688-6]

Motorola 52nd Street Superfund Site; Proposed Notice of Administrative Settlement Based on a Limited Ability To Pay at the Motorola 52nd Street Superfund Site

AGENCY: Environmental Protection Agency (EPA).

ACTION: Notice; Request for Public Comment.

SUMMARY: Notice is hereby given that a proposed Administrative Settlement (“Agreement”) based on limited ability to pay for a potential source facility at the Motorola 52nd Street Superfund Site in Phoenix, Arizona (“52nd Street Site” or “Site”). The Agreement has been negotiated by the United States Environmental Protection Agency (“EPA”) and the owner and operator of the potential source facility, Paul McCoys Laundry and Dry Cleaners, Inc. (“Respondent”) subject to the final review and approval of the EPA and the U.S. Department of Justice. The proposed Agreement settles Respondent's liability at the Site pursuant to the Comprehensive Environmental Response, Compensation and Liability Act, 42 U.S.C. 9622(h)(1) (“CERCLA”). In the Agreement, Respondent agrees to pay the EPA $26,000 representing a portion of costs incurred in response to the release or threat of release of hazardous substances the Site. In exchange, the proposed Agreement includes EPA's covenant not to sue or to take administrative action against Respondent.

For thirty (30) calendar days following the date of publication of this notice, EPA will receive written comments relating to the proposed Agreement. EPA's response to any comments received will be available for public inspection at the U.S. Environmental Protection Agency, 75 Hawthorne Street, San Francisco, CA 94105.

DATES: Comments must be submitted on or before August 7, 2008.

Availability: The proposed Agreement may be obtained from Judith Winchell, Docket Clerk, telephone (415) 972-3124. Comments regarding the proposed Agreement should be addressed to Judith Winchell (SFD-7) at United States EPA Region IX, 75 Hawthorne Street, San Francisco, California 94105, and should reference “Motorola 52nd Street Superfund Site,” and “Docket No. R9-2008-03”.

FOR FURTHER INFORMATION CONTACT: Bethany Dreyfus, Assistant Regional Counsel (ORC-3), Office of Regional Counsel, U.S. EPA Region IX, 75 Hawthorne Street, San Francisco, CA 94105; E-mail: dreyfus.bethany@epa.gov; phone: (415) 972-3886.

Dated: June 26, 2008.
Michael Montgomery,
Acting Director, Superfund Division, Region IX.

[FR Doc. E8-15433 Filed 7-7-08; 8:45 am]

BILLING CODE 6560-50-P